DEPARTMENT OF LABOR

Employment and Training Administration

[TA-W-39,342]

The Kelly Springfield Tire Co., Tyler, Texas; Notice of Termination of Investigation

Pursuant to section 221 of the Trade Act of 1974, an investigation was initiated on May 29, 2001, in response to a petition filed on behalf of workers at The Kelly Springfield Tire Company, Division of Goodyear Tire and Rubber Company, Tyler, Texas.

The company official submitting the petition has requested that the petition be withdrawn. Consequently, further investigation in this case would serve no purpose, and the investigation has been terminated.

Signed in Washington, DC this 29th day of June, 2001.
Linda G. Poole,
Certifying Officer, Division of Trade Adjustment Assistance.

[FR Doc. 01-17355 Filed 7-10-01; 8:45 am]

BILLING CODE 4510-30-M